DEPARTMENT OF TRANSPORTATION

Research and Special Programs Administration

[Docket No. RSPA-03-14793 (Notice No. 03-11)]

Hazardous Materials: Regulations for the Safe Transport of Radioactive Material (TS-R-1); Public Meeting

AGENCY: Research and Special Programs Administration (RSPA), DOT.

ACTION: Notice of public meeting.

SUMMARY: RSPA will conduct a public meeting pertaining to the proposed changes to the International Atomic Energy Agency's (IAEA) Regulations for the Safe Transport of Radioactive Materials, TS-R-1, scheduled for revision in the year 2005. Interested persons are invited to attend.

DATES: Public meeting. The public meeting will be held on November 5, 2003 from 9:30 a.m. to 11 a.m.

ADDRESSES: Public meeting. The meeting will be held at Department of Transportation Headquarters, Nassif Building, 400 Seventh Street, SW., Washington, DC 20590-0001, in room 8236-8240.

Docket: For access to the docket to read background documents or comments received, go to http://dms.dot.gov at any time or to the Docket Management System; U.S. Department of Transportation, 400 Seventh Street, SW., Nassif Building, Room PL-401, Washington, DC 20590-0001.

FOR FURTHER INFORMATION CONTACT: Mr. Rick Boyle, Office of Hazardous Material Technology, U.S. Department of Transportation, Nassif Building, 400 Seventh Street, SW., Washington, DC 20590-0001; (202) 366-2993; rick.boyle@rspa.dot.gov.

SUPPLEMENTARY INFORMATION:

Background

The purpose of this meeting is to discuss the U.S. Department of Transportation comments forwarded to the International Atomic Energy Agency (IAEA) on the proposed changes to the IAEA Regulations for the Safe Transport of Radioactive Materials, TS-R-1. These comments will be presented as the U.S. positions at the IAEA regulatory review meeting scheduled for November 10-14, 2003, in Bonn, Germany. The public is invited to attend without prior notification. Due to heightened security measures at DOT Headquarters, participants are encouraged to arrive early to allow time to undergo the security checks necessary to obtain access to the building.

The regulatory changes proposed by IAEA are available on the Internet at http://hazmat.dot.gov/files/IAEA_TS-R-1_rev_prop.pdf. A consolidated draft of the endorsed proposed TS-R-1 revision may be downloaded at http://hazmat.dot.gov/files/IAEA_TS-R-1_rev_draft.pdf. A summary of the U.S. DOT positions forwarded to the IAEA may be downloaded at http://hazmat.dot.gov/files/IAEA_TS-R-1_dot_position.pdf.

Issued in Washington, DC on October 7, 2003.
Robert A. McGuire,
Associate Administrator for Hazardous Materials Safety.

[FR Doc. 03-25895 Filed 10-10-03; 8:45 am]

BILLING CODE 4910-60-P